COMMODITY FUTURES TRADING COMMISSION

Sunshine Act Meeting

TIME AND DATE: 10:00 a.m., Friday, October 11, 2013

PLACE: 1155 21st St. NW., Washington, DC, 9th Floor Commission Conference Room

STATUS: Closed.

MATTERS TO BE CONSIDERED: Surveillance, Enforcement Matters, and Examinations. In the event that the times or dates of this or any future meetings change, an announcement of the change, along with the new time and place of the meeting will be posted on the Commission's Web site at http://www.cftc.gov.

CONTACT PERSON FOR MORE INFORMATION: Melissa D. Jurgens, 202-418-5516.

Natise Stowe,
Executive Assistant.

[FR Doc. 2013-23416 Filed 9-23-13; 11:15 am]

BILLING CODE 6351-01-P